DEPARTMENT OF EDUCATION

[Docket No.: ED-2016-ICCD-0028]

Agency Information Collection Activities; Comment Request; Annual and Final Performance Report Data Collection for Arts in Education Grantees

AGENCY: Office of Innovation and Improvement (OII), Department of Education (ED).

ACTION: Notice.

SUMMARY: In accordance with the Paperwork Reduction Act of 1995 (44 U.S.C. chapter 3501 et seq.), ED is proposing a new information collection.

DATES: Interested persons are invited to submit comments on or before May 17, 2016.

ADDRESSES: To access and review all the documents related to the information collection listed in this notice, please use http://www.regulations.gov by searching the Docket ID number ED-2016-ICCD-0028. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-105, Washington, DC 20202-4537.

FOR FURTHER INFORMATION CONTACT: For specific questions related to collection activities, please contact Doug Herbert, 202-401-3813.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Annual and Final Performance Report Data Collection for Arts in Education Grantees.

OMB Control Number: 1855-NEW.

Type of Review: A new information collection.

Respondents/Affected Public: State, Local, and Tribal Governments; Private Sector.

Total Estimated Number of Annual Responses: 98.

Total Estimated Number of Annual Burden Hours: 3,920.

Abstract: The Government Performance and Results Act (GPRA) requires all federally funded agencies to develop and implement an accountability system based on performance measurement. This regulation applies to grantees receiving funds from the Dept. of ED's Office of Innovation and Improvement AEMDD, PDAE, and AENP programs. Each grantee is required to report on performance and progress towards GPRA measures as a condition of the grant. Data for GPRA performance measures are collected through the Annual Performance Report (APR) completed by grantees. The APR also collects budget information and data on project-specific performance measures. The forms being submitted for OMB review are APR templates that expand on the ED 524-B form to gather additional data on performance from Arts in Education grantees in a streamlined manner. Performance data are used to help make decisions about continued funding for grantees and to show overall program progress by aggregating GPRA data across grantees. GPRA data may be also be used by Congress to determine future program funding.

Dated: March 14, 2016.
Stephanie Valentine,
Acting Director, Information Collection Clearance Division, Office of the Chief Privacy Officer, Office of Management.

[FR Doc. 2016-06070 Filed 3-17-16; 8:45 am]

BILLING CODE 4000-01-P